GENERAL SERVICES ADMINISTRATION

[Notice-GTAC-2013-04; Docket No. 2013-0002; Sequence 43]

Government-Wide Travel Advisory Committee (GTAC); Public Advisory Committee Meetings

AGENCY: Office of Government-Wide Policy, General Services Administration (GSA).

ACTION: Notice.

SUMMARY: This notice announces the rescheduled date of the cancelled GTAC meeting December 10, 2013 due to the closure of Federal buildings and winter weather conditions in the Washington Metropolitan Area. This notice announces the next two meeting dates: January 22, 2014 and February 19, 2014. The meetings are open to the public via teleconference.

DATES: The next meeting will be held on Wednesday, January 22, 2014, beginning at 9:00 a.m. and ending no later than 4:00 p.m. Eastern Standard Time. The February meeting will be held on Wednesday, February 19, 2014, beginning at 9:00 a.m. and ending no later than 4:00 p.m. Eastern Standard Time.

FOR FURTHER INFORMATION CONTACT: Ms. Marcerto Barr, Designated Federal Officer (DFO), Government-wide Travel Advisory Committee (GTAC), Office of Government-Wide Policy, General Services Administration, 1800 F Street NW., Washington, DC 20405, 202-208-7654 or by email to: gtac@gsa.gov.

SUPPLEMENTARY INFORMATION: The purpose of the GTAC is to conduct public meetings, submit reports and to make recommendations to existing travel policies, processes and procedures, including the per diem methodology to assure that official travel is conducted in a responsible manner with the need to minimize costs.

Authority: The GSA Office of Asset and Transportation Management, Travel and Relocation Division, establishes policy that governs travel by Federal civilian employees and others authorized to travel at Government expense on temporary duty travel through the Federal Travel Regulation (FTR).

Agenda: The January meeting will discuss Meals and Incidental Expenditures Allowances. The February meeting will discuss rental cars (passenger vehicles) and sustainability of federal travel.

Meeting Access: The meeting is open to the public via teleconference. Members of the public wishing to listen in on the GTAC discussion are recommended to visit the GTAC Web site at: www.gsa.gov/gtac to obtain registration details. Members of the public will not have the opportunity to ask questions or otherwise participate in the meeting. However, members of the public wishing to comment on the discussion or topics outlined in the agenda should follow the steps detailed in Procedures for Providing Public Comments.

Availability of Materials for the Meeting: Please see the GTAC Web site www.gsa.gov/gtac for any available materials and detailed meeting notes after the meeting.

Procedures for Providing Public Comments: In general, public comments will be posted to www.gsa.gov/gtac. Non-electronic documents will be made available for public inspection and copying at GSA, 1800 F Street NW., Washington, DC 20405, on official business days between the hours of 10:00 a.m. Eastern Standard Time and 4:00 p.m. Eastern Standard Time. The public can make an appointment to inspect comments by telephoning the DFO at 202-208-7654. All comments, including attachments and other supporting materials received, are part of the public record and subject to public disclosure. Any comments submitted in connection with the GTAC meeting will be made available to the public under the provisions of the Federal Advisory Committee Act.

The public is invited to submit written comments within 7 business days after each meeting by either of the following methods and cite Meeting Notice-GTAC-2013-04.

Electronic or Paper Comments: (1) submit electronic comments to gtac@gsa.gov; or

(2) submit paper comments to the attention of Ms. Marcerto Barr at GSA, 1800 F Street NW., Washington, DC 20405.

Dated: December 19, 2013.
Carolyn Austin-Diggs,
Acting Deputy Associate Administrator, Office of Asset and Transportation Management, Office of Government-Wide Policy.

[FR Doc. 2013-31167 Filed 12-27-13; 8:45 am]

BILLING CODE 6820-14-P